NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119).

Date/Time: November 4, 2009; 8:30 a.m. to 5 p.m., November 5, 2009; 8:30 a.m. to 1 p.m.

Place: National Science Foundation Headquarters, Stafford Place II—Room 555, 4201 Wilson Boulevard, Arlington, VA 22230.

Type of Meeting: Open.

Contact Person: James Colby, National Science Foundation, 4201 Wilson Boulevard, Arlington, VA 22230, (703) 292-5331 jcolby@nsf.gov.

If you are attending the meeting and need access to the NSF, please contact the individual listed above so your name may be added to the building access list. Please report to the North Doors of NSF [corner of N. Stuart and N. Ninth Streets]. After receiving a Visitors Badge, staff will guide you to conference room 555 in the adjacent Stafford II annex of NSF].

Purpose of Meeting: To provide advice with respect to the Foundation's science, technology, engineering, and mathematics (STEM) education and human resources programming.

Agenda

November 4, 2009

I. Acting Assistant Director's Remarks.

II. Discussion of Interagency Collaborations: U.S. Department of Education.

III. Discussion of Cyberlearning: International Context.

IV. Visit From the Office of the NSF Director.

V. Discussion of Interagency Collaborations (continued): National Oceanic and Atmospheric Administration and National Aeronautics and Space Administration.

VI. Discussion of NSF-wide Collaborations.

VII. Review and Acceptance of Committee of Visitor Reports:

• Advanced Technological Education.

• Research on Gender in Science and Engineering.

• Research in Disabilities Education.

• Graduate Research Fellowships.

• Discovery Research K-12.

• Research and Evaluation on Education in Science and Engineering.

• Course, Curriculum, and Laboratory Improvement Program.

November 5, 2009

I. Subcommittee Meetings and Reports.

II. Future Issues for Consideration.

Dated: October 9, 2009.
Susanne Bolton,
Committee Management Officer.

[FR Doc. E9-24816 Filed 10-14-09; 8:45 am]

BILLING CODE P